NUCLEAR REGULATORY COMMISSION

10 CFR Part 72

[NRC-2019-0202]

RIN 3150-AK39

List of Approved Spent Fuel Storage Casks: TN Americas LLC, Standardized NUHOMS® Horizontal Modular Storage System, Certificate of Compliance No. 1004, Renewed Amendment No. 16

AGENCY: Nuclear Regulatory Commission.

ACTION: Direct final rule.

SUMMARY: The U.S. Nuclear Regulatory Commission (NRC) is amending its spent fuel storage regulations by revising the TN Americas LLC, Standardized NUHOMS® Horizontal Modular Storage System (Standardized NUHOMS® System) listing within the “List of approved spent fuel storage casks” to include Renewed Amendment No. 16 to Certificate of Compliance No. 1004. This amendment used a qualitative risk-informed approach (graded approach criteria) to streamline the format and content of the certificate of compliance. Renewed Amendment No. 16 does not include any design or fabrication changes to the Standardized NUHOMS® System.

DATES: This direct final rule is effective September 14, 2020, unless significant adverse comments are received by July 30, 2020. If this direct final rule is withdrawn as a result of such comments, timely notice of the withdrawal will be published in the Federal Register. Comments received after this date will be considered if it is practical to do so, but the NRC is able to ensure consideration only for comments received on or before this date. Comments received on this direct final rule will also be considered to be comments on a companion proposed rule published in the Proposed Rules section of this issue of the Federal Register.

ADDRESSES: You may submit comments by any of the following methods:

• Federal Rulemaking Website: Go to https://www.regulations.gov and search for Docket ID NRC-2019-0202. Address questions about NRC dockets to Carol Gallagher; telephone: 301-415-3463; email: Carol.Gallagher@nrc.gov. For technical questions contact the individuals listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Norma García Santos, Office of Nuclear Material Safety and Safeguards; telephone: 301-415-6999; email: Norma.GarciaSantos@nrc.gov or Torre Taylor, Office of Nuclear Material Safety and Safeguards; telephone: 301-415-7900; email: Torre.Taylor@nrc.gov. Both are staff of the U.S. Nuclear Regulatory Commission, Washington, DC 20555-0001.

SUPPLEMENTARY INFORMATION:

Table of Contents

I. Obtaining Information and Submitting Comments

II. Rulemaking Procedure

III. Background

IV. Discussion of Changes

V. Voluntary Consensus Standards

VI. Agreement State Compatibility

VII. Plain Writing

VIII. Environmental Assessment and Finding of No Significant Environmental Impact

IX. Paperwork Reduction Act Statement

X. Regulatory Flexibility Certification

XI. Regulatory Analysis

XII. Backfitting and Issue Finality

XIII. Congressional Review Act

XIV. Availability of Documents

I. Obtaining Information and Submitting Comments

A. Obtaining Information

Please refer to Docket ID NRC-2019-0202 when contacting the NRC about the availability of information for this action. You may obtain publicly-available information related to this action by any of the following methods:

• Federal Rulemaking Website: Go to https://www.regulations.gov and search for Docket ID NRC-2019-0202.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The Public Document Room (PDR), where you may examine and order copies of public documents is currently closed. You may submit your request to the PDR via email at PDR.Resource@nrc.gov or call 1-800-397-4209 between 8:00 a.m. and 4:00 p.m. (EST), Monday through Friday, except Federal holidays.

B. Submitting Comments

Please include Docket ID NRC-2019-0202 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

This rule is limited to the changes contained in Renewed Amendment No. 16 to Certificate of Compliance No. 1004 and does not include other aspects of the Standardized NUHOMS® System design. The NRC is using the direct final rule procedure to issue this amendment because it represents a limited and routine change to an existing certificate of compliance that is expected to be non-controversial. The NRC has determined that, with the changes, reasonable assurance for adequate protection of public health and safety will continue to be ensured. The amendment to the rule will become effective on September 14, 2020. However, if the NRC receives significant adverse comments on this direct final rule by July 30, 2020, then the NRC will publish a document that withdraws this action and will subsequently address the comments received in a final rule as a response to the companion proposed rule published in the Proposed Rules section of this issue of the Federal Register. Absent significant modifications to the proposed revisions requiring republication, the NRC will not initiate a second comment period on this action.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule, certificate of compliance, or technical specifications.

III. Background

Section 218(a) of the Nuclear Waste Policy Act of 1982, as amended, requires that “[t]he Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the Nuclear Waste Policy Act states, in part, that “[the Commission] shall, by rule, establish procedures for the licensing of any technology approved by the Commission under Section 219(a) [sic: 218(a)] for use at the site of any civilian nuclear power reactor.”

To implement this mandate, the Commission approved dry storage of spent nuclear fuel in NRC-approved casks under a general license by publishing a final rule that added a new subpart K in part 72 of title 10 of the Code of Federal Regulations (10 CFR) entitled “General License for Storage of Spent Fuel at Power Reactor Sites” (55 FR 29181; July 18, 1990). This rule also established a new subpart L in 10 CFR part 72 entitled “Approval of Spent Fuel Storage Casks,” which contains procedures and criteria for obtaining NRC approval of spent fuel storage cask designs. The NRC subsequently issued a final rule on December 22, 1994 (59 FR 65898), that approved the Standardized NUHOMS® System design and added it to the list of NRC-approved cask designs provided in § 72.214 as Certificate of Compliance No. 1004.

By application dated August 24, 2015, as supplemented on February 9, 2016, TN Americas LLC submitted a request to the NRC, in accordance with § 72.244, to renew and revise Certificate of Compliance No. 1004. On December 4, 2017, the NRC issued the renewals of the initial certificate; Amendment Nos. 1 through 11 and 13, Revision 1; and Amendment No. 14 of Certificate of Compliance No. 1004 for the Standardized NUHOMS® System. Subsequently, Renewed Amendment No. 15 was issued on December 14, 2018. The certificates were renewed for an additional 40-year period. This certificate, its amendments, and all future amendments to the certificate are referred to as Renewed Amendments.

IV. Discussion of Changes

On June 29, 2017, TN Americas LLC submitted a request to the NRC to amend Certificate of Compliance No. 1004. TN Americas LLC supplemented its request on the following dates: August 31, 2017; October 13, 2017; November 16, 2017; April 26, 2018; June 7, 2018; September 3, 2019; September 6, 2019; September 10, 2019; and September 11, 2019. Because this amendment is subsequent to TN Americas LLC's Standardized NUHOMS® System, Certificate of Compliance No. 1004 renewal, it is subject to the Aging Management Program requirements of the renewed certificate of compliance; therefore, it is referred to as “Renewed Amendment No. 16.” Renewed Amendment No. 16 contains no design or fabrication changes to the Standardized NUHOMS® System; rather, the applicant requested changes to the format and content of the certificate.

This amendment application was used as a pilot project to apply a qualitative risk-informed approach (using the “graded approach criteria”) that could be used to streamline the format and content of certificates of compliance. In 2016 and 2017, the NRC coordinated with external stakeholders through a series of public workshops to explore options for achieving efficiencies through changes to the format and content of certificates of compliance. The information obtained from those workshops supported development of risk-informed, graded approach criteria that could be used to streamline the format and content of a certificate of compliance for a spent fuel storage system. The graded approach criteria help determine the level of detail and location of information that should be included in a certificate of compliance for a spent fuel dry storage cask design.

The NRC prepared a preliminary safety evaluation report that documents its review of TN Americas LLC's amendment request for Renewed Amendment No. 16. Chapter 2 of the preliminary safety evaluation report for this amendment discusses the development of the graded approach criteria in more detail, including information on the public meetings that were held and how the criteria were applied in review of this amendment request. The graded approach is further described in Regulatory Issue Resolution Protocol I-16-01. The NRC recently endorsed the graded approach criteria by letter to the Nuclear Energy Institute, dated January 8, 2020.

The preliminary safety evaluation report additionally documents that the proposed changes to Certificate of Compliance No. 1004 continue to provide reasonable assurance of adequate protection to public health and safety. The preliminary safety evaluation report also concludes that the proposed changes were included in the appropriate section of the certificate of compliance, its appendices, and/or the updated final safety analysis report; and that the proposed changes did not include any design or fabrication changes.

In reaching this determination, the NRC reviewed the applicant's use of the graded approach criteria that are described in detail in Chapter 2 of the preliminary safety evaluation report. In general, the criteria were used to evaluate whether the changes proposed to the format and content of Certificate of Compliance No. 1004 were appropriate. The staff reviewed the applicant's use of the graded approach criteria to ensure that the certificate included information that was important to safety and that no information was removed if the information met one of the risk criteria. The changes to Certificate of Compliance No. 1004 and its appendices are identified with revision bars in the margin of each licensing document.

As documented in the preliminary safety evaluation report, there are no changes to cask design requirements in the proposed amendment. The design of the cask would prevent loss of containment, shielding, and criticality control in the event of each evaluated accident condition. This amendment does not reflect a change in design or fabrication of the cask. In addition, because there are no design or fabrication changes, there are no resulting changes in occupational exposure or offsite dose rates from the implementation of Renewed Amendment No. 16; therefore, exposure and dose rate limits would remain well within the limits specified by 10 CFR part 20, “Standards for Protection Against Radiation.” With no design or fabrication changes, there will be no significant change in the types or amounts of any effluent released, no significant increase in the individual or cumulative radiation exposure, and no significant increase in the potential for or consequences from radiological accidents.

The NRC staff determined that the amended Standardized NUHOMS® System design, when used under the conditions specified in the certificate of compliance, the technical specifications, and the NRC's regulations, will meet the requirements of 10 CFR part 72; therefore, adequate protection of public health and safety will continue to be reasonably assured. When this direct final rule becomes effective, persons who hold a general license under § 72.210 may, consistent with the license conditions under § 72.212, load spent nuclear fuel into TN Americas LLC Standardized NUHOMS® System casks that meet the criteria of Renewed Amendment No. 16 to Certificate of Compliance No. 1004.

V. Voluntary Consensus Standards

The National Technology Transfer and Advancement Act of 1995 (Pub. L. 104-113) requires that Federal agencies use technical standards that are developed or adopted by voluntary consensus standards bodies unless the use of such a standard is inconsistent with applicable law or otherwise impractical. In this direct final rule, the NRC revises the TN Americas LLC Standardized NUHOMS® System design listed in § 72.214, “List of approved spent fuel storage casks.” This action does not constitute the establishment of a standard that contains generally applicable requirements.

VI. Agreement State Compatibility

Under the “Agreement State Program Policy Statement” approved by the Commission on October 2, 2017 and published in the Federal Register on October 18, 2017 (82 FR 48535), this rule is classified as Compatibility Category NRC—Areas of Exclusive NRC Regulatory Authority. The NRC program elements in this category are those that relate directly to areas of regulation reserved to the NRC by the Atomic Energy Act of 1954, as amended, or the provisions of 10 CFR chapter I. Therefore, compatibility is not required for program elements in this category. Although an Agreement State may not adopt program elements reserved to the NRC, and the Category “NRC” does not confer regulatory authority on the State, the State may wish to inform its licensees of certain requirements by means consistent with the particular State's administrative procedure laws.

VII. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VIII. Environmental Assessment and Finding of No Significant Impact

Under the National Environmental Policy Act of 1969, as amended, and the NRC's regulations in subpart A of 10 CFR part 51, “Environmental Protection Regulations for Domestic Licensing and Related Regulatory Functions,” the NRC has determined that this direct final rule, if adopted, would not be a major Federal action significantly affecting the quality of the human environment and, therefore, an environmental impact statement is not required. The NRC has made a finding of no significant impact on the basis of this environmental assessment.

A. The Action

The action is to amend § 72.214 to revise the Standardized NUHOMS® System listing within the “List of approved spent fuel storage casks” to include Renewed Amendment No. 16 to Certificate of Compliance No. 1004. This amendment revises the certificate of compliance using the graded approach criteria to change the format and content of the certificate of compliance. No technical changes were made to the certificate of compliance as part of this amendment.

B. The Need for the Action

This direct final rule amends the certificate of compliance for the Standardized NUHOMS® System design within the list of approved spent fuel storage casks to allow power reactor licensees to store spent fuel at reactor sites under a general license. Specifically, this amendment revises the certificate of compliance to enable the use of the graded approach criteria to change the format and content of the certificate of compliance to (1) include only the information that is needed for safety, (2) move information to the appendices or the final safety analysis report such as consolidating similar programmatic or technical information in a centralized location which facilities the use of the certificate, (3) remove requirements already in 10 CFR part 72, and (4) remove duplicative information in the certificate of compliance, the appendices, or the updated final safety analysis report.

C. Environmental Impacts of the Action

On July 18,1990 (55 FR 29181), the NRC issued an amendment to 10 CFR part 72 to provide for the storage of spent fuel under a general license in cask designs approved by the NRC. The potential environmental impact of using NRC-approved storage casks was initially analyzed in the environmental assessment for the 1990 final rule. The environmental assessment for this Renewed Amendment No. 16 tiers off of the environmental assessment for the July 18, 1990, final rule. Tiering on past environmental assessments is a standard process under the National Environmental Policy Act of 1969, as amended.

The Standardized NUHOMS® Systems are designed to mitigate the effects of design basis accidents that could occur during storage. Design basis accidents account for human-induced events and the most severe natural phenomena reported for the site and surrounding area. Postulated accidents analyzed for an independent spent fuel storage installation, the type of facility at which a holder of a power reactor operating license would store spent fuel in casks in accordance with 10 CFR part 72, can include tornado winds and tornado-generated missiles, a design basis earthquake, a design basis flood, an accidental cask drop, lightning effects, fire, explosions, and other types of incidents.

Considering the specific design requirements for each accident condition, the design of the cask would prevent loss of confinement, shielding, and criticality control in the event of an accident. If there is no loss of confinement, shielding, or criticality control, the environmental impacts resulting from an accident would be insignificant. This amendment does not reflect changes in the design or fabrication of the storage system. Because there are no design or process changes, any resulting occupational exposure or offsite dose rates from the implementation of Renewed Amendment No. 16 would remain well within the 10 CFR part 20 limits. Therefore, the proposed changes will not result in any radiological or non-radiological environmental impacts that significantly differ from the environmental impacts evaluated in the environmental assessment supporting the July 18, 1990, final rule. There will be no significant change in the types or significant revisions in the amounts of any effluent released, no significant increase in the individual or cumulative radiation exposure, and no significant increase in the potential for or consequences from radiological accidents. The NRC documented its safety findings in the preliminary safety evaluation report.

D. Alternative to the Action

The alternative to this action is to deny approval of Renewed Amendment No. 16 and not issue the direct final rule. Consequently, any 10 CFR part 72 general licensee that seeks to load spent nuclear fuel into the TN Americas LLC Standardized NUHOMS® System in accordance with the changes described in proposed Renewed Amendment No. 16 would have to request an exemption from the requirements of §§ 72.212 and 72.214 for some of the risk-informed changes proposed. Under this alternative, interested licensees would have to prepare, and the NRC would have to review, a separate exemption request for some of these changes, thereby increasing the administrative burden upon the NRC and the costs to each licensee. The environmental impacts would be the same as the proposed action.

E. Alternative Use of Resources

Approval of Renewed Amendment No. 16 to Certificate of Compliance No. 1004 would result in no irreversible commitment of resources.

F. Agencies and Persons Contacted

No agencies or persons outside the NRC were contacted in connection with the preparation of this environmental assessment.

G. Finding of No Significant Impact

The environmental impacts of the action have been reviewed under the requirements in National Environmental Policy Act of 1969, as amended, and the NRC's regulations in subpart A of 10 CFR part 51, “Environmental Protection Regulations for Domestic Licensing and Related Regulatory Functions.” Based on the foregoing environmental assessment, the NRC concludes that this direct final rule entitled “List of Approved Spent Fuel Storage Casks: TN Americas LLC, Standardized NUHOMS® Horizontal Modular System, Certificate of Compliance No. 1004, Renewed Amendment No. 16” will not have a significant effect on the human environment. Therefore, the NRC has determined that an environmental impact statement is not necessary for this direct final rule.

IX. Paperwork Reduction Act Statement

This direct final rule does not contain any new or amended collections of information subject to the Paperwork Reduction Act of 1995 (44 U.S.C. 3501 et seq.). Existing collections of information were approved by the Office of Management and Budget, approval number 3150-0132.

Public Protection Notification

The NRC may not conduct or sponsor, and a person is not required to respond to, a request for information or an information collection requirement unless the requesting document displays a currently valid Office of Management and Budget control number.

X. Regulatory Flexibility Certification

Under the Regulatory Flexibility Act of 1980 (5 U.S.C. 605(b)), the NRC certifies that this direct final rule will not, if issued, have a significant economic impact on a substantial number of small entities. This direct final rule affects only nuclear power plant licensees and TN Americas LLC. These entities do not fall within the scope of the definition of small entities set forth in the Regulatory Flexibility Act or the size standards established by the NRC (§ 2.810).

XI. Regulatory Analysis

On July 18, 1990 (55 FR 29181), the NRC issued an amendment to 10 CFR part 72 to provide for the storage of spent nuclear fuel under a general license in cask designs approved by the NRC. Any nuclear power reactor licensee can use NRC-approved cask designs to store spent nuclear fuel if: (1) It notifies the NRC in advance; (2) the spent fuel is stored under the conditions specified in the cask's certificate of compliance; and (3) the conditions of the general license are met. A list of NRC-approved cask designs is contained in § 72.214. On December 22, 1994 (59 FR 65898), the NRC issued an amendment to 10 CFR part 72 that approved the Standardized NUHOMS® System design by adding it to the list of NRC-approved cask designs in § 72.214.

On June 29, 2017, as supplemented on August 31, 2017, October 13, 2017, November 16, 2017, April 26, 2018, June 7, 2018, September 3, 2019, September 6, 2019, September 10, 2019, and September 11, 2019, TN Americas LLC submitted a request to amend the Standardized NUHOMS® System as described in Section IV, “Discussion of Changes,” of this document.

The alternative to this action is to not approve the amendment, as discussed in Section VIII.D. of this document. If Renewed Amendment No. 16 is not approved, users of this design would not be able to process some changes under the provisions of § 72.48, thereby decreasing efficiency and increasing costs in the long term. To implement some of the format and content changes, users of the design would have to request an exemption from some of the requirements of §§ 72.212 and 72.214. Under this alternative, each interested 10 CFR part 72 licensee would have to prepare, and NRC would have to review, a separate exemption request, thereby increasing the administrative burden upon the NRC and the costs to each licensee.

Approval of this direct final rule is consistent with previous NRC actions. Further, as documented in the preliminary safety evaluation report and environmental assessment, this direct final rule will have no adverse effect on public health and safety or the environment. This direct final rule has no significant identifiable impact or benefit on other government agencies. Based on this regulatory analysis, the NRC concludes that the requirements of this direct final rule are commensurate with the NRC's responsibilities for public health and safety and the common defense and security. No other available alternative is believed to be as satisfactory, and therefore, this action is recommended.

XII. Backfitting and Issue Finality

The NRC has determined that the backfit rule (§ 72.62) does not apply to this direct final rule. Therefore, a backfit analysis is not required. This direct final rule revises Certificate of Compliance No. 1004 for the TN Americas LLC Standardized NUHOMS® System, as currently listed in § 72.214. The amendment consists of the changes in Renewed Amendment No. 16 previously described, as set forth in the revised certificate of compliance and technical specifications.

Renewed Amendment No. 16 to Certificate of Compliance No. 1004 for the Standardized NUHOMS® System was initiated by TN Americas LLC and was not submitted in response to new NRC requirements, or an NRC request for amendment. Renewed Amendment No. 16 applies only to new casks fabricated and used under Renewed Amendment No. 16. These changes do not affect existing users of the Standardized NUHOMS® System, and previous amendments continue to be effective for existing users. While current certificate of compliance users may comply with Renewed Amendment No. 16, this would be a voluntary decision on the part of current users.

For these reasons, Renewed Amendment No. 16 to Certificate of Compliance No. 1004 does not constitute backfitting under § 72.62 or § 50.109(a)(1), or otherwise represent an inconsistency with the issue finality provisions applicable to combined licenses in 10 CFR part 52. Accordingly, the NRC has not prepared a backfit analysis for this rulemaking.

XIII. Congressional Review Act

This direct final rule is not a rule as defined in the Congressional Review Act.

XIV. Availability of Documents

The documents identified in the following table are available to interested persons through one or more of the following methods, as indicated.

Document | ADAMS accession No., (ADAMS package accession No.), or Federal Register citation
Areva Inc.'s (former name of TN Americas LLC) Request to Make Changes to Certificate of Compliance 1004, Amendments 0-11 and 13; dated August 24, 2015 | (ML15239A718).
Letter from P. Triska, Areva, to the NRC; Response to Request for Additional Information; dated February 9, 2016 | (ML16054A214).
Letter from P. Triska, Areva, to the NRC; Response to Request for Additional Information; dated February 9, 2016 | (ML16054A226).
Letter from R. McCullum/NEI to M. Layton/NMSS/DSFM re: Regulatory Issue Protocol Screening Form and Resolution Plan for Improving the Part 72 Regulatory Framework (RIRP-I-16-01); dated, May 12, 2017 | ML17138A119.
TN Americas LLC Request to Add Amendment No. 16 to Certificate of Compliance No. 1004; letter dated June 29, 2017 | (ML17191A227).
TN Americas LLC Request to Add Amendment No. 16 to Certificate of Compliance No. 1004; supplemental letter dated August 31, 2017 | (ML17249A001).
TN Americas LLC; Certificate of Compliance No. 1004, Renewed Amendment No. 14; letter dated September 27, 2017 | 82 FR 44879.
TN Americas LLC Request to Add Amendment No. 16 to Certificate of Compliance No. 1004; supplemental letter dated October 13, 2017 | (ML17304A278).
TN Americas LLC Request to Add Amendment No. 16 to Certificate of Compliance No. 1004; supplemental letter dated November 16, 2017 | (ML17325A408).
TN Americas LLC Request to Add Amendment No. 16 to Certificate of Compliance No. 1004; supplemental letter dated April 26, 2018 | (ML18124A195).
TN Americas LLC Request to Add Amendment No. 16 to Certificate of Compliance No. 1004; supplemental letter dated June 7, 2018 | ML18162A093.
TN Americas LLC Request to Add Amendment No. 16 to Certificate of Compliance No. 1004; supplemental letter dated September 3, 2019 | (ML19255E934).
Email from D. Shaw (TN Americas LLC) to N. Garcia Santos (NRC) RE: Certificate of Compliance No. 1004, Amendment 16 (NUHOMS®)—NRC Clarification of Terminology in Certificate of Compliance; Dated September 6, 2019 | ML19252A394.
TN Americas LLC Request to Add Amendment No. 16 to Certificate of Compliance No. 1004, Form 74—Correction to Appendix A of the Certificate of Compliance; dated September 10, 2019 | (ML19253C390).
TN Americas LLC Request to Add Amendment No. 16 to Certificate of Compliance No. 1004, Form 29—Correction to Appendix A and B of the Certificate of Compliance; dated September 11, 2019 | (ML19254C951).
TN Americas LLC Amendment No. 16 to Certificate of Compliance No. 1004 | ML19262E160.
Technical Specifications for TN Americas LLC Amendment No. 16 to Certificate of Compliance No. 1004 | ML19262E154, ML19262E156, and ML19262E158.
Preliminary Safety Evaluation Report for TN Americas LLC Amendment No. 16 to Certificate of Compliance No. 1004 | ML19262E161.
Letter from A. Kock, NMSS/DFM, to R. McCullum, NEI, Endorsement of Graded Approach Criteria; dated January 8, 2020 | (ML19353D337).

The NRC may post materials related to this document, including public comments, on the Federal Rulemaking website at https://www.regulations.gov under Docket ID NRC-2019-0202. The Federal Rulemaking website allows you to receive alerts when changes or additions occur in a docket folder. To subscribe: (1) Navigate to the docket folder NRC-2019-0202; (2) click the “Sign up for Email Alerts” link; and (3) enter your email address and select how frequently you would like to receive emails (daily, weekly, or monthly).

List of Subjects in 10 CFR Part 72

Administrative practice and procedure, Hazardous waste, Indians, Intergovernmental relations, Nuclear energy, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendments to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance No. 1004 is revised to read as follows:

§ 72.214 List of approved spent fuel storage casks.

* * * * *

Certificate Number: 1004.

Initial Certificate Effective Date: January 23, 1995, superseded by Initial Certificate, Revision 1, on April 25, 2017, superseded by Renewed Initial Certificate, Revision 1, on December 11, 2017.

Renewed Initial Certificate, Revision 1, Effective Date: December 11, 2017.

Amendment Number 1 Effective Date: April 27, 2000, superseded by Amendment Number 1, Revision 1, on April 25, 2017, superseded by Renewed Amendment Number 1, Revision 1, on December 11, 2017.

Renewed Amendment Number 1, Revision 1, Effective Date: December 11, 2017.

Amendment Number 2 Effective Date: September 5, 2000, superseded by Amendment Number 2, Revision 1, on April 25, 2017, superseded by Renewed Amendment Number 2, Revision 1, on December 11, 2017.

Renewed Amendment Number 2, Revision 1, Effective Date: December 11, 2017.

Amendment Number 3 Effective Date: September 12, 2001, superseded by Amendment Number 3, Revision 1, on April 25, 2017, superseded by Renewed Amendment Number 3, Revision 1, on December 11, 2017.

Renewed Amendment Number 3, Revision 1, Effective Date: December 11, 2017.

Amendment Number 4 Effective Date: February 12, 2002, superseded by Amendment Number 4, Revision 1, on April 25, 2017, superseded by Renewed Amendment Number 4, Revision 1, on December 11, 2017.

Renewed Amendment Number 4, Revision 1, Effective Date: December 11, 2017.

Amendment Number 5 Effective Date: January 7, 2004, superseded by Amendment Number 5, Revision 1, on April 25, 2017, superseded by Renewed Amendment Number 5, Revision 1, on December 11, 2017.

Renewed Amendment Number 5, Revision 1, Effective Date: December 11, 2017.

Amendment Number 6 Effective Date: December 22, 2003, superseded by Amendment Number 6, Revision 1, on April 25, 2017, superseded by Renewed Amendment Number 6, Revision 1, on December 11, 2017.

Renewed Amendment Number 6, Revision 1, Effective Date: December 11, 2017.

Amendment Number 7 Effective Date: March 2, 2004, superseded by Amendment Number 7, Revision 1, on April 25, 2017, superseded by Renewed Amendment Number 7, Revision 1, on December 11, 2017.

Renewed Amendment Number 7, Revision 1, Effective Date: December 11, 2017.

Amendment Number 8 Effective Date: December 5, 2005, superseded by Amendment Number 8, Revision 1, on April 25, 2017, superseded by Renewed Amendment Number 8, Revision 1, on December 11, 2017.

Renewed Amendment Number 8, Revision 1, Effective Date: December 11, 2017.

Amendment Number 9 Effective Date: April 17, 2007, superseded by Amendment Number 9, Revision 1, on April 25, 2017, superseded by Renewed Amendment Number 9, Revision 1, on December 11, 2017.

Renewed Amendment Number 9, Revision 1, Effective Date: December 11, 2017.

Amendment Number 10 Effective Date: August 24, 2009, superseded by Amendment Number 10, Revision 1, on April 25, 2017, superseded by Renewed Amendment Number 10, Revision 1, on December 11, 2017.

Renewed Amendment Number 10, Revision 1, Effective Date: December 11, 2017.

Amendment Number 11 Effective Date: January 7, 2014, superseded by Amendment Number 11, Revision 1, on April 25, 2017, superseded by Renewed Amendment Number 11, Revision 1, on December 11, 2017.

Renewed Amendment Number 11, Revision 1, Effective Date: December 11, 2017, as corrected (ADAMS Accession No. ML18018A043).

Amendment Number 12 Effective Date: Amendment not issued by the NRC.

Amendment Number 13 Effective Date: May 24, 2014, superseded by Amendment Number 13, Revision 1, on April 25, 2017, superseded by Renewed Amendment Number 13, Revision 1, on December 11, 2017.

Renewed Amendment Number 13, Revision 1, Effective Date: December 11, 2017, as corrected (ADAMS Accession No. ML18018A100).

Amendment Number 14 Effective Date: April 25, 2017, superseded by Renewed Amendment Number 14, on December 11, 2017.

Renewed Amendment Number 14 Effective Date: December 11, 2017.

Renewed Amendment Number 15 Effective Date: January 22, 2019.

Renewed Amendment Number 16 Effective Date: September 14, 2020.

SAR Submitted by: Transnuclear, Inc.

SAR Title: Final Safety Analysis Report for the Standardized NUHOMS® Horizontal Modular Storage System for Irradiated Nuclear Fuel.

Docket Number: 72-1004.

Certificate Expiration Date: January 23, 2015.

Renewed Certificate Expiration Date: January 23, 2055.

Model Number: NUHOMS®-24P, -24PHB, -24PTH, -32PT, -32PTH1, -37PTH, -52B, -61BT, -61BTH, and -69BTH.

* * * * *

Dated June 15, 2020.
For the Nuclear Regulatory Commission.
Margaret M. Doane,
Executive Director for Operations.

[FR Doc. 2020-13730 Filed 6-29-20; 8:45 am]

BILLING CODE 7590-01-P